DEPARTMENT OF JUSTICE

Antitrust Division

Notice Pursuant to the National Cooperative Research and Production Act of 1993—Telemanagement Forum

Notice is hereby given that, on August 1, 2022, pursuant to Section 6(a) of the National Cooperative Research and Production Act of 1993, 15 U.S.C. 4301 et seq. (“the Act”), TM Forum, A New Jersey Non-Profit Corporation (“The Forum”) filed written notifications simultaneously with the Attorney General and the Federal Trade Commission disclosing changes in its membership. The notifications were filed for the purpose of extending the Act's provisions limiting the recovery of antitrust plaintiffs to actual damages under specified circumstances.

Specifically, the following entities have become members of the Forum: ONEiO, Helsinki, FINLAND; UBiqube, Dublin, IRELAND; AOE GmbH, Wiesbaden, GERMANY; Yupiik, Montpellier, FRANCE; Liberty Networks Germany GmbH, Köln, GERMANY; TDC NET A/S, København, DENMARK; Oxio, Québec, CANADA; Delta Partners FZ LLC, Dubai, UNITED ARAB EMIRATES; Liberty Latin America, Denver, CO; EXFO Inc, Québec, CANADA; VSE NET GmbH, Saarbrücken, GERMANY; Gomibo Group, Groningen, NETHERLANDS; Workato Europe SA, Barcelona, SPAIN; Arrcus Inc., San Jose, CA; PrologMobile, Louisville, CO; Shaanxi Normal University, Xi'an, PEOPLE'S REPUBLIC OF CHINA; Nanjing University, Nanjing, PEOPLE'S REPUBLIC OF CHINA; Nanjing Howso Technology Co., LTD, Nanjing, PEOPLE'S REPUBLIC OF CHINA; Beijing Tianyuan DIC Information Technology Co. Ltd., Beijing, PEOPLE'S REPUBLIC OF CHINA; Shanghai Fudata Technology Co. Ltd, Shanghai, PEOPLE'S REPUBLIC OF CHINA; Beijing Baidu Netcom Science Technology Co., Ltd., Beijing, PEOPLE'S REPUBLIC OF CHINA; Beijing Ultrapower Software Co., Ltd., Beijing, PEOPLE'S REPUBLIC OF CHINA; Business-intelligence of Oriental Nations Corporation Ltd., Beijing, PEOPLE'S REPUBLIC OF CHINA; Telekom Slovenije, Ljubljana, SLOVENIA; Gn0man, Glen Ellyn, IL; InCyan Ltd, Bath, UNITED KINGDOM; Separate Reality Ltd, Newcastle Upon Tyne, UNITED KINGDOM; Türkiye'nin Otomobili Girisim Grubu Sanayi ve Ticaret Anonim Sirketi, Kocaeli, TURKEY; MTN South Africa, Randburg, SOUTH AFRICA; Chorus New Zealand Limited, Wellington, NEW ZEALAND; Persistent Systems Ltd, Pune, INDIA; Mascom Wireless, Gabarone, BOTSWANA.

Also, the following members have changed their names: MetroNet, Metronet, Evansville, IN; Beyond by BearingPoint, Beyond Now, Graz, AUSTRIA; Ikanotis Partners Ltd, Datapply.ai, Nicosia, CYPRUS; Hydro One Telecom, Acronym Solutions Inc., Etobicoke, CANADA.

In addition, the following parties have withdrawn as parties to this venture: Asiainfo International (H.K.) Limited, HONG KONG-CHINA; Bulb Technologies Ltd., Zagreb, CROATIA; B-YOND, Frisco, TX; Claro Chile, Santiago, CHILE; Confluent Europe, London, UNITED KINGDOM; ETI Software Solutions, Norcross, GA; Eureka.ai, Bellevue, WA; Federos, Frisco, TX; HITSS SOLUTIONS, S.A. DE C.V., Col. Miguel Hidalgo, MEXICO; Network Operations and Management Lab, Institute for Network Sciences and Cyberspace, Tsinghua University, Beijing, PEOPLE'S REPUBLIC OF CHINA; Neural Technologies, Petersfield, UNITED KINGDOM; NewAgent Business Consulting and Solutions, Jaraguá do Sul, BRAZIL; r3., London, UNITED KINGDOM; Simeon Cloud, San Jose, CA; Srivari Incorporated DBA Viswambara Software Systems, Bellevue, WA; Tarifflex Telecom AB, Stockholm, SWEDEN; Telecom Bretagne, School of Institute Mines-Telecom, Brest Cedex 3, FRANCE; The Cure Parkinsons Trust, London, UNITED KINGDOM; Thibera Consulting GmbH, Ingbert, GERMANY; University College Cork, Cork, IRELAND; University of Applied Sciences Konstanz, Konstanz, GERMANY; Waterford Institute of Technology, Waterford, IRELAND.

No other changes have been made in either the membership or planned activity of the group research project. Membership in this group research project remains open and TM Forum intends to file additional written notifications disclosing all changes in membership.

On October 21, 1988, TM Forum filed its original notification pursuant to Section 6(a) of the Act. The Department of Justice published a notice in the Federal Register pursuant to Section 6(b) of the Act on December 8, 1988 (53 FR 49615).

The last notification was filed with the Department on April 22, 2022. A notice was published in the Federal Register pursuant to Section 6(b) of the Act on May 31, 2022 (87 FR 32460).

Suzanne Morris,
Chief, Premerger and Division Statistics, Antitrust Division.

[FR Doc. 2022-18651 Filed 8-29-22; 8:45 am]

BILLING CODE P